NUCLEAR REGULATORY COMMISSION

Notice of Opportunity to Comment on Model Safety Evaluation and Model License Amendment Request on Technical Specification Improvement Regarding the Removal of the Main Steam and Main Feedwater Isolation Valve Times Using the Consolidated Line Item Improvement Process

AGENCY: Nuclear Regulatory Commission.

ACTION: Request for comment.

SUMMARY: Notice is hereby given that the staff of the U.S. Nuclear Regulatory Commission (NRC) has prepared a model license amendment request (LAR), model safety evaluation (SE), and model proposed no significant hazards consideration (NSHC) determination related to changes to Standard Technical Specification NUREG-1430, 1431, 1432, (STS) 3.7.2, “Main Stream Isolation Valves (MSIVs);” NUREG-1430, STS 3.7.3, “Main Feedwater Stop Valves (MFSVs), Main Feedwater Control Valves (MFCVs), and Associated Startup Feedwater Control Valves (SFCVs);” NUREG-1431, STS 3.7.3, “Main Feedwater Isolation Valves (MFIVs), Main Feedwater Regulation Valves (MFRVs), and Associated Bypass Valves;” and NUREG-1432, STS 3.7.3,”Main Feedwater Isolation Valves (MFIVs), and MFIV Bypass Valves.” These valves are herein referred to generically as the Main Steam and Main Feedwater Isolation Valves. The Babcocks and Wilcocks Owners Group (BWOG), the Combustion Engineering Owners Group (CEOG) and the Westinghouse Owners Group (WOG) participants in the Technical Specifications Task Force (TSTF) proposed these changes to the STS in TSTF-491, Revision 2 “Removal of Main Steam and Feedwater Valve Isolation Times.”

The purpose of these models is to permit the NRC to efficiently process amendments to incorporate these changes into plant-specific Technical Specifications (TS) for Babcock and Wilcock Pressurized Water Reactors (BWPWR), Combustion Engineering Pressurized Water Reactors (CEPWR) and Westinghouse Pressurized Water Reactors (WPWR). Licensees of nuclear power reactors to which the models apply can request amendments conforming to the models. In such a request, a licensee should confirm the applicability of the model LAR, model SE and NSHC determination to its plant. The NRC staff is requesting comments on the model LAR, model SE and NSHC determination before announcing their availability for referencing in license amendment applications.

DATES: The comment period expires November 6, 2006. Comments received after this date will be considered if it is practical to do so, but the Commission is able to ensure consideration only for comments received on or before this date.

ADDRESSES: Comments may be submitted either electronically or via U.S. mail. Submit written comments to: Chief, Rulemaking, Directives, and Editing Branch, Division of Administrative Services, Office of Administration, Mail Stop: T-6 D59, U.S. Nuclear Regulatory Commission, Washington, DC 20555-0001.

Hand deliver comments to: 11545 Rockville Pike, Rockville, Maryland, between 7:45 a.m. and 4:15 p.m. on Federal workdays.

Submit comments by electronic mail to: CLIIP@nrc.gov. Copies of comments received may be examined at the NRC's Public Document Room, One White Flint North, Public File Area O1-F21, 11555 Rockville Pike (first floor), Rockville, Maryland.

FOR FURTHER INFORMATION CONTACT: Peter C. Hearn, Mail Stop: O-12H2, Division of Inspection and Regional Support, Office of Nuclear Reactor Regulation, U.S. Nuclear Regulatory Commission, Washington, DC 20555-0001, telephone (301) 415-1189, e-mail pch@nrc.gov.

SUPPLEMENTARY INFORMATION:

Background

Regulatory Issue Summary 2000-06, “Consolidated Line Item Improvement Process for Adopting Standard Technical Specifications Changes for Power Reactors,” was issued on March 20, 2000. The CLIIP is intended to improve the efficiency and transparency of NRC licensing processes. This is accomplished by processing proposed changes to the STS in a manner that supports subsequent license amendment applications. The CLIIP includes an opportunity for the public to comment on proposed changes to the STS following a preliminary assessment by the NRC staff and finding that the change will likely be offered for adoption by licensees. This notice is soliciting comment on a proposed change to the STS that relocates the Main Steam and Main Feedwater Isolation Valves Closure Times for the Babcock and Wilcock PWR STS Revision 3.0 of NUREG-1430, Combustion Engineering PWR STS Revision 3.0 of NUREG-1432 and Westinghouse PWR STS Revision 3.0 of NUREG-1431 to a Licensee Controlled Document that is referenced in the Bases. The CLIIP directs the NRC staff to evaluate any comments received for a proposed change to the STS and to either reconsider the change or proceed with announcing the availability of the change for proposed adoption by licensees. Those licensees opting to apply for the subject change to TSs are responsible for reviewing the staff's evaluation, referencing the applicable technical justifications, and providing any necessary plant-specific information. Following the public comment period, the model LAR and model SE will be finalized, and posted on the NRC Web page. Each amendment application made in response to the notice of availability will be processed and noticed in accordance with applicable NRC rules and procedures.

This notice involves relocating the Main Steam and Main Feedwater Isolation Valves Closure Times for the Babcock and Wilcock PWRs, Combustion Engineering PWRs and Westinghouse PWRs to a Licensee Controlled Document that is referenced in the Bases. By letter dated May 18, 2006, the BWPWR, CEPWR and the WPWR OG proposed these changes for incorporation into the STS as TSTF-491, Revision 2. These changes are accessible electronically from the Agency-wide Documents Access and Management System's (ADAMS) Public Electronic Reading Room on the Internet (ADAMS Accession No. ML061500078) at the NRC Web site http://frwebgate.access.gpo.gov/cgi-bin/leaving.cgi?from=leavingFR.html&log=linklog&to=http://www.nrc.gov/reading-rm/adams.html. Persons who do not have access to ADAMS or who encounter problems in accessing the documents located in ADAMS should contact the NRC Public Document Room Reference staff by telephone at 1-800-397-4209, 301-415-4737, or by e-mail to pdr@nrc.gov.

Applicability

These proposed changes will revise the Sections 3.7.2 and 3.7.3 for the Babcock and Wilcock, Combustion Engineering and Westinghouse plants.

To efficiently process the incoming license amendment applications, the NRC staff requests that each licensee applying for the changes addressed by TSTF-491, Revision 2, using the CLIIP submit an LAR that adheres to the following model. Any variations from the model LAR should be explained in the licensee's submittal. Variations from the approach recommended in this notice may require additional review by the NRC staff, and may increase the time and resources needed for the review. Significant variations from the approach, or inclusion of additional changes to the license, will result in staff rejection of the submittal. Instead, licensees desiring significant variations and/or additional changes should submit a LAR that does not claim to adopt TSTF-491.

Public Notices

This notice requests comments from interested members of the public within 30 days of the date of this publication. Following the NRC staff's evaluation of comments received as a result of this notice, the NRC staff may reconsider the proposed change or may proceed with announcing the availability of the change in a subsequent notice (perhaps with some changes to the model LAR, model SE or model NSHC determination as a result of public comments). If the NRC staff announces the availability of the change, licensees wishing to adopt the change will submit an application in accordance with applicable rules and other regulatory requirements. The NRC staff will, in turn, issue for each application a notice of consideration of issuance of amendment to facility operating license(s), a proposed NSHC determination, and an opportunity for a hearing. A notice of issuance of an amendment to operating license(s) will also be issued to announce the revised requirements for each plant that applies for and receives the requested change.

Dated at Rockville, Maryland this 28th day of September 2006.
For the Nuclear Regulatory Commission.
Timothy J. Kobetz,
Chief, Technical Specifications Branch, Division of Inspection and Regional Support, Office of Nuclear Reactor Regulation.

Attachments—For inclusion on the Technical Specification Web Page the following example of an application was prepared by the NRC staff to facilitate the adoption of Technical Specifications Task Force (TSTF) Traveler TSTF-491, Revision 2. The model provides the expected level of detail and content for an application to adopt TSTF-491, Revision 2. Licensees remain responsible for ensuring that their actual application fulfills their administrative requirements as well as NRC regulations.

U.S. Nuclear Regulatory Commission, Document Control Desk, Washington, DC 20555.Subject: Plant Name, Docket No. 50-[XXX,] Re: Application For Technical Specification Improvement To Adopt TSTF-491, Revision 2 “Removal of Main Steam and Feedwater Valve Isolation Times.”

Dear Sir or Madam:

In accordance with the provisions of Section 50.90 of Title 10 of the Code of Federal Regulations (10 CFR), [LICENSEE] is submitting a request for an amendment to the technical specifications (TS) for [PLANT NAME, UNIT NOS.]. The proposed changes would revise Sections 3.7.2, “Main Steam Isolation Valves” and 3.7.3, “Main Feedwater Isolation Valves”. The changes are consistent with NRC-approved Industry Technical Specification Task Force (TSTF) Standard Technical Specification Change Traveler, TSTF-491, Revision 2 “Removal of Main Steam and Feedwater Valve Isolation Times.” The availability of this TS improvement was announced in the Federal Register on [DATE] ([ ]FR[ ]) as part of the consolidated line item improvement process CLIIP.

Enclosure 1 provides a description and assessment of the proposed changes, as well as confirmation of applicability. Enclosure 2 provides the existing TS pages and TS Bases marked-up to show the proposed changes. Enclosure 3 provides final TS pages and TS Bases pages.

[LICENSEE] requests approval of the proposed license amendment by [DATE], with the amendment being implemented [BY DATE OR WITHIN X DAYS]. In accordance with 10 CFR 50.91, a copy of this application, with enclosures, is being provided to the designated [STATE] Official.

I declare under penalty of perjury under the laws of the United States of America that I am authorized by [LICENSEE] to make this request and that the foregoing is true and correct. [Note that request may be notarized in lieu of using this oath or affirmation statement]. If you should have any questions regarding this submittal, please contact [ ].

Sincerely,

Name, Title

Enclosures:

1. Description and Assessment of Proposed Changes

2. Proposed Technical Specification Changes and Technical Specification Bases Changes

3. Final Technical Specification and Bases pages

cc: NRR Project Manager, Regional Office, Resident Inspector, State Contact, T. Kobetz.

1.0 Description

This letter is a request to amend Operating License(s) [LICENSE NUMBER(S)] for [PLANT/UNIT NAME(S)].

The proposed changes would revise Technical Specification 3.7.2 “ Main Steam Valves Closure Times” and 3.7.3 “Main Feedwater Isolation Valves Closure Times” to allow relocating the closure times to a Licensee Controlled Document that is referenced in the BasesTechnical Specification Task Force (TSTF) change traveler TSTF-491, Revision 2, “Removal of Main Steam and Feedwater Valve Isolation Times” was announced for availability in the Federal Register on [DATE] as part of the consolidated line item improvement process CLIIP.

2.0 Proposed Changes

Consistent with NRC-approved TSTF_491, Revision 2, the proposed TS changes include: Relocating the main steam and main feedwater isolation closure times to a Licensee Controlled Document that is referenced in the Bases.

3.0 Background

The background for this application is as stated in the model SE in NRC's Notice of Availability published on [DATE ]([ ] FR [ ]), the NRC Notice for Comment published on [DATE] ([ ] FR [ ]), and TSTF-491, Revision 2.

4.0 Technical Analysis

[LICENSEE] has reviewed References 1 and 2, and the model SE published on [DATE] ([ ] FR [ ]) as part of the CLIIP Notice for Comment. [LICENSEE] has applied the methodology in Reference 1 to develop the proposed TS changes. [LICENSEE] has also concluded that the justifications presented in TSTF-491, Revision 2 and the model SE prepared by the NRC staff are applicable to [PLANT, UNIT NOS.], and justify this amendment for the incorporation of the changes to the [PLANT] TS.

5.0 Regulatory Analysis

A description of this change and its relationship to applicable regulatory requirements and guidance was provided in the NRC Notice of Availability published on [Date] ([FR [ ]), the NRC Notice for Comment published on [Date] ([ ] FR [ ]) and TSTF-491, Revision 2.

6.0 No Significant Hazards Consideration

[LICENSEE] has reviewed the proposed no significant hazards consideration determination published in the Federal Register on [DATE] ([ ] FR [ ]) as part of the CLIIP. [LICENSEE] has concluded that the proposed determination presented in the notice is applicable to [PLANT] and the determination is hereby incorporated by reference to satisfy the requirements of 10 CFR 50.91(a).

7.0 Environmental Evaluation

[LICENSEE] has reviewed the environmental consideration included in the model SE published in the Federal Register on [DATE] ([ ] FR [ ]) as part of the CLIIP. [LICENSEE] has concluded that the staff's findings presented therein are applicable to [PLANT] and the determination is hereby incorporated by reference for this application.

8.0 References

1. Federal Register Notices: Notice for Comment published on [DATE] ([ ] FR [ ]).

Notice of Availability published on [DATE] ([ ] FR [ ]).

Model Safety Evaluation—U.S. Nuclear Regulatory Commission.

Office of Nuclear Reactor Regulation-“Technical Specification Task Force TSTF-491, Revision 2, “Removal of Main Steam and Feedwater Valve Isolation Times.”

Model Safety Evaluation—U.S. Nuclear Regulatory Commission, Office of Nuclear Reactor Regulation—“Technical Specification Task Force TSTF-491, Revision 2,”—“Removal of Main Steam and Feedwater Valve Isolation Times.”

1.0 Introduction

By letter dated [__, 20_], [LICENSEE] (the licensee) proposed changes to the technical specifications (TS) for [PLANT NAME]. The requested changes are the adoption of TSTF-491, Revision 2, “Removal of Main Steam and Feedwater Valve Isolation Times” which was proposed by the Technical Specification Task Force (TSTF) by letter on May 18, 2006. The proposed changes would revise Technical Specification 3.7.2 “ Main Steam Valves Closure Times” and 3.7.3 “Main Feedwater Isolation Valves Closure Times.” The proposed TSTF would allow relocating the isolation valve closure times to a Licensee Controlled Document that is referenced in the Bases. Technical Specification Task Force (TSTF) change traveler TSTF-491, Revision 2, was announced for availability in the Federal Register on [DATE] as part of the consolidated line item improvement process CLIIP.

2.0 Regulatory Evaluation

Section 182a of the Atomic Energy Act (the “Act”) requires applicants for nuclear power plant operating licenses to include TS as part of the license. The TS ensure the operational capability of structures, systems and components that are required to protect the health and safety of the public. The Commission's regulatory requirements related to the content of the TS are contained in 10 CFR Section 50.36. That regulation requires that the TS include items in the following specific categories: (1) Safety limits, limiting safety systems settings, and limiting control settings (50.36(c)(1)); (2) Limiting Conditions for Operation (50.36(c)(2)); (3) Surveillance Requirements (50.36(c)(3)); (4) design features (50.34(c)(4)); and (5) administrative controls (50.36(c)(5)).

In general, there are two classes of changes to TS: (1) Changes needed to reflect modifications to the design basis (TS are derived from the design basis), and (2) voluntary changes to take advantage of the evolution in policy and guidance as to the required content and preferred format of TS over time. This amendment deals with the second class of changes.

In determining the acceptability of revising STS 3.7.2 and 3.7.3, the staff used the accumulation of generically approved guidance in NUREG-1430, “Standard Technical Specifications, Revision 3 Babcock and Wilcox Plants,” dated June, 2004; NUREG-1431, Revision 3, “Standard Technical Specifications, Westinghouse Plants,” dated June, 2004; and NUREG-1432, “Standard Technical Specifications, Revision 3 Combustion Engineering Plants,” dated June, 2004.

Licensees may revise the TS to adopt current improved STS format and content provided that plant-specific review supports a finding of continued adequate safety because: (1) The change is editorial, administrative or provides clarification (i.e., no requirements are materially altered), (2) the change is more restrictive than the licensee's current requirement, or (3) the change is less restrictive than the licensee's current requirement, but nonetheless still affords adequate assurance of safety when judged against current regulatory standards. The detailed application of this general framework, and additional specialized guidance, are discussed in Section 3.0 in the context of specific proposed changes. Nomenclature specific to the Westinghouse Plants is used in the following Technical Evaluation.

3.0 Technical Evaluation

The NRC staff has reviewed the justification for the proposed TSTF as described in the September 13, 2005 submittal. The detailed evaluation below will support the conclusion that: (1) There is reasonable assurance that the health and safety of the public will not be endangered by operation in the proposed manner, (2) such activities will be conducted in compliance with the Commission's regulations, and (3) the issuance of the amendment will not be inimical to the common defense and security or to the health and safety of the public.

3.1 Main Steam Isolation Valves (MSIV)

One MSIV is located in each main steam line outside of the containment. Closing the MSIVs isolates each steam generator from the others and isolates the turbine, steam bypass system and other auxiliary steam supplies from the steam generator.

By isolating the steam flow from the secondary side of the steam generator the MSIVs prevent over cooling the reactor core following a high energy line break (HELB). By preventing core overcooling the MSIVs protect the reactor core from being damaged.

TSTF-491 is proposing to relocate the required closure times for the MSIVs to the Licensee Controlled Document (LCD) that is referenced in the Bases. Changes to LCDs are subject to the 10 CFR 50.59 process. The 10 CFR 50.59 criteria provide adequate assurance that prior staff review and approval will be requested by the licensee for changes to the Bases or LCD requirements with the potential to affect the safe operation of the plant. Furthermore, the MSIVs are subject to periodic testing and acceptance criteria in accordance with the Inservice Testing (IST) Program. Compliance with the IST Program is required by Section 5.5.7 of the Standard Technical Specifications (STS) and 10 CFR 50.55. The IST Program includes specific reference value baseline operating times for valves that are not subject to arbitrary changes.

10 CFR 50.36 requires the inclusion of the periodic testing of the MSIVs in the Surveillance Requirements not the actual closure time of the valves. TSTF-491 change maintains the periodic testing requirements for MSIVs in accordance with 10 CFR 50.36.

Based on the requirements of 10 CFR 50.36, 10 CFR 50.59 and IST Program, the staff concludes that relocating the MSIV closure time to the LCD as referenced in the Bases is acceptable.

3.2 Main Feedwater Isolation Valve (MFIV), Main Feedwater Regulation/Control Valve (MFRV) and Associated Bypass Valves (BV)

The MFIVs and BVs or the MFRVs and BVs isolate the nonsafety related portions from the safety related portions of the system. In the event of a secondary side pipe rupture inside containment, these valves limit the quantity of high energy fluid that enters the containment through the break and provide a pressure boundary for the controlled addition of auxiliary feedwater to the intact loops.

By isolating the feedwater flow from the affected steam generator the MFIVs, MFRVs and BVs prevent overcooling the reactor core and over pressurizing of the containment from feedwater pump runout.

As with the MSIVs, TSTF-491 is also proposing to relocate the required closure times for the MFIVs, MFRVs and BVS to the LCD that is referenced in the Bases. Changes to the Bases or LCD are subject to the 10 CFR 50.59 process. The 10 CFR 50.59 criteria provide adequate assurance that prior staff review and approval will be requested by the licensee for changes to the Bases or Licensee Controlled Document requirements with the potential to affect the safe operation of the plant. Furthermore, the MFIVs, MFRVs and BVs are subject to periodic testing and acceptance criteria in accordance with the Inservice Testing (IST) Program. Compliance with the IST Program is required by Section 5.5.7 of the Standard Technical Specifications (STS) and 10 CFR 50.55. The IST Program includes specific reference value baseline operating times for valves that are not subject to arbitrary changes.

10 CFR 50.36 requires the inclusion of the periodic testing of the MFIVs, MFRVs and BVs in the Surveillance Requirements not the actual closure time of the valves. TSTF-491 maintains the periodic testing requirements for MFIVs, MFRVs and BVs in accordance with 10 CFR 50.36.

Based on the requirements of 10 CFR 50.36, 10 CFR 50.59 and the IST Program, the staff concludes that relocating the MFIVs, MFRVs and BVs closure times to the LCD as referenced in the Bases is acceptable.

4.0 State Consultation

In accordance with the Commission's regulations, the [___] State official was notified of the proposed issuance of the amendment. The State official had [(1) no comments or (2) the following comments—with subsequent disposition by the staff].

5.0 Environmental Consideration

The amendment[s] change[s] a requirement with respect to the installation or use of a facility component located within the restricted area as defined in 10 CFR part 20 or surveillance requirements. The NRC staff has determined that the amendment involves no significant increase in the amounts, and no significant change in the types, of any effluents that may be released offsite, and that there is no significant increase in individual or cumulative occupational radiation exposure. The Commission has previously issued a proposed finding that the amendment involves no significant hazards consideration and there has been no public comment on such finding published [DATE] ([ ] FR [ ]). Accordingly, the amendment meets the eligibility criteria for categorical exclusion set forth in 10 CFR 51.22(c)(9). Pursuant to 10 CFR 51.22(b), no environmental impact statement or environmental assessment need be prepared in connection with the issuance of the amendment.6.0 Conclusion

The Commission has concluded, based on the considerations discussed above, that (1) There is reasonable assurance that the health and safety of the public will not be endangered by operation in the proposed manner, (2) such activities will be conducted in compliance with the Commission's regulations, and (3) the issuance of the amendment will not be inimical to the common defense and security or to the health and safety of the public. Proposed No Significant Hazards Consideration Determination Description of Amendment Request: [Plant name] requests adoption of an approved change to the standard technical specifications (STS) for Babcock and Wilcock PWR STS Revision 3.0 of NUREG-1430, Combustion Engineering PWR STS Revision 3.0 of NUREG-1432 and Westinghouse PWR STS Revision 3.0 of NUREG-1431 plant specific technical specifications (TS), to allow relocating the main steam and main feedwater isolation valve closure times to a Licensee Controlled Document that is referenced in the Bases. The changes are consistent with NRC approved Industry/Technical Specification Task Force (TSTF) Standard Technical Specifcation Change Traveler, TSTF-491, Revision 2.

Basis for proposed no-significant-hazards-consideration determination: As required by 10 CFR 50.91(a), an analysis of the issue of no-significant-hazards-consideration is presented below:

Criterion 1—The Proposed Change Does Not Involve a Significant Increase in the Probability or Consequences of an Accident Previously Evaluated

The proposed change allows relocating main steam and main feedwater valve isolation times to the Licensee Controlled Document that is referenced in the Bases. The proposed change is described in Technical Specification Task Force (TSTF) Standard TS Change Traveler TSTF-491 related to relocating the main steam and main feedwater valves isolation times to the Licensee Controlled Document that is referenced in the Bases and replacing the isolation time with the phase, “within limits.”

The proposed change does not involve a physical alteration of the plant (no new or different type of equipment will be installed). The proposed changes relocate the main steam and main feedwater isolation valve times to the Licensee Controlled Document that is referenced in the Bases. The requirements to perform the testing of these isolation valves are retained in the TS. Future changes to the Bases or licensee-controlled document will be evaluated pursuant to the requirements of 10 CFR 50.59, “ Changes, test and experiments”, to ensure that such changes do not result in more than minimal increase in the probability or consequences of an accident previously evaluated.

The proposed changes do not adversely affect accident initiators or precursors nor alter the design assumptions, conditions, and configuration of the facility or the manner in which the plant is operated and maintained. The proposed changes do not adversely affect the ability of structures, systems and components (SSCs) to perform their intended safety function to mitigate the consequences of an initiating event within the assumed acceptance limits. The proposed changes do not affect the source term, containment isolation, or radiological consequences of any accident previously evaluated. Further, the proposed changes do not increase the types and the amounts of radioactive effluent that may be released, nor significantly increase individual or cumulative occupation/public radiation exposures.

Therefore, the changes do not involve a significant increase in the probability or consequences of any accident previously evaluated.

Criterion 2—The Proposed Change Does Not Create the Possibility of a New or Different Kind of Accident from any Previously Evaluated

The proposed changes relocate the main steam and main feedwater valve isolation times to the Licensee Controlled Document that is referenced in the Bases. In addition, the valve isolation times are replaced in the TS with the phase “within limits”. The changes do not involve a physical altering of the plant (i.e., no new or different type of equipment will be installed) or a change in methods governing normal pant operation. The requirements in the TS continue to require testing of the main steam and main feedwater isolation valves to ensure the proper functioning of these isolation valves.

Therefore, the changes do not create the possibility of a new or different kind of accident from any previously evaluated.

Criterion 3—The Proposed Change Does Not Involve a Significant Reduction in the Margin of Safety

The proposed changes relocate the main steam and main feedwater valve isolation times to the Licensee Controlled Document that is referenced in the Bases. In addition, the valve isolation times are replaced in the TS with the phase “within limits”. Instituting the proposed changes will continue to ensure the testing of main steam and main feedwater isolation valves. Changes to the Bases or license controlled document are performed in accordance with 10 CFR 50.59. This approach provides an effective level of regulatory control and ensures that main steam and feedwater isolation valve testing is conducted such that there is no significant reduction in the margin of safety.

The margin of safety provided by the isolation valves is unaffected by the proposed changes since there continue to be TS requirements to ensure the testing of main steam and main feedwater isolation valves. The proposed changes maintain sufficient controls to preserve the current margins of safety.

Based upon the reasoning above, the NRC staff concludes that the amendment request involves no significant hazards consideration.

For the Nuclear Regulatory Commission.

Project Manager, Plant Licensing Branch, Division of Operating Reactor Licensing, Office of Nuclear Reactor Regulation.

[FR Doc. E6-16450 Filed 10-4-06; 8:45 am]

BILLING CODE 7590-01-P